DEPARTMENT OF ENERGY

Federal Energy Regulatory Commission

[Project No. 2711-024]

Northern States Power Company—Wisconsin; Notice of Intent To File License Application, Filing of Pre-Application Document, Approving Use of the Traditional Licensing Process

a. Type of Filing: Notice of Intent to File License Application and Request to Use the Traditional Licensing Process.

b. Project No.: 2711-024.

c. Date Filed: November 30, 2020.

d. Submitted By: Northern States Power Company—Wisconsin.

e. Name of Project: Trego Hydroelectric Project.

f. Location: The Trego Project is located on the Namekagon River in Washburn County, Wisconsin. No federal lands are occupied by the project works or located within the project boundary.

g. Filed Pursuant to: 18 CFR 5.3 of the Commission's regulations.

h. Potential Applicant Contact: James M. Zyduck, Director of Hydro Plants, Northern States Power Company, 1414 W. Hamilton Ave. P.O. Box 8 Eau Claire, WI 54702-0008; email at James.Zyduck@XcelEnergy.com.

i. FERC Contact: Laura Washington at (202) 502-6072; or email at Laura.Washington@ferc.gov.or Tyrone Williams at (202) 502-6331; or email at Tyrone.Williams@ferc.gov.

j. Northern States filed its request to use the Traditional Licensing Process on November 30, 2020. Northern States provided public notice of its request on December 11, 2020. In a letter dated January 21, 2021, the Director of the Division of Hydropower Licensing approved Northern States' request to use the Traditional Licensing Process.

k. With this notice, we are initiating informal consultation with the U.S. Fish and Wildlife Service and/or NOAA Fisheries under section 7 of the Endangered Species Act and the joint agency regulations thereunder at 50 CFR, Part 402; and NOAA Fisheries under section 305(b) of the Magnuson-Stevens Fishery Conservation and Management Act and implementing regulations at 50 CFR 600.920. We are also initiating consultation with the Wisconsin State Historic Preservation Officer as required by section 106, National Historic Preservation Act, and the implementing regulations of the Advisory Council on Historic Preservation at 36 CFR 800.2.

l. With this notice, we are designating Northern States as the Commission's non-federal representative for carrying out informal consultation pursuant to section 7 of the Endangered Species Act, and consultation pursuant to section 106 of the National Historic Preservation Act.

m. Northern States filed a Pre-Application Document (PAD); including a proposed process plan and schedule with the Commission, pursuant to 18 CFR 5.6 of the Commission's regulations.

n. A copy of the PAD may be viewed and/or printed on the Commission's website (http://www.ferc.gov), using the “eLibrary” link. Enter the docket number, excluding the last three digits in the docket number field to access the document. At this time, the Commission has suspended access to the Commission's Public Reference Room, due to the proclamation declaring a National Emergency concerning the Novel Coronavirus Disease (COVID-19), issued by the President on March 13, 2020. For assistance, contact FERC Online Support at FERCOnlineSupport@ferc.gov, (866) 208-3676 (toll free), or (202) 502-8659 (TTY).

o. The licensee states its unequivocal intent to submit an application for a subsequent license for Project No. 2711. Pursuant to 18 CFR 16.20, each application for a subsequent license and any competing license applications must be filed with the Commission at least 24 months prior to the expiration of the existing license. All applications for license for this project must be filed by November 30, 2023.

p. Register online at http://www.ferc.gov/docs-filing/esubscription.asp to be notified via email of new filing and issuances related to this or other pending projects. For assistance, contact FERC Online Support.

Dated: January 21, 2021.
Kimberly D. Bose,
Secretary.

[FR Doc. 2021-01777 Filed 1-26-21; 8:45 am]

BILLING CODE 6717-01-P